NATIONAL SCIENCE FOUNDATION

Advisory Committee for Engineering; Notice of Meeting

In accordance with the Federal Advisory Committee Act (Pub., L. 92-463, as amended), the National Science Foundation (NSF) announces the following meeting:

Name and Committee Code: Advisory Committee for Engineering #1170.

Date and Time: October 23, 2018: 11:45 a.m. to 5:30 p.m., October 24, 2018: 8:30 a.m. to 12:45 p.m.

Place: National Science Foundation, 2415 Eisenhower Avenue, Room E2030, Alexandria, Virginia 22314.

Type of Meeting: Open.

Contact Person: Evette Rollins, National Science Foundation, 2415 Eisenhower Avenue, Suite C14000, Alexandria, Virginia 22314; 703-292-8300.

Purpose of Meeting: To provide advice, recommendations and counsel on major goals and policies pertaining to engineering programs and activities.

Agenda

Tuesday, October 23, 2018

• Perspectives from the Director's Office

• Directorate for Engineering Report

• NSF Budget Update

• Office of Emerging Frontiers and Multidisciplinary Activities (EFMA) Overview

• EFMA Committee of Visitors (COV) Report and Discussion

• Engineering Artificial Intelligence

Wednesday, October 24, 2018

• Reports from Advisory Committee Liaisons

• Division of Electrical, Communications, and Cyber Systems (ECCS) Overview

• ECCS Committee of Visitors (COV) Report

• Quantum Engineering Challenges

• NSF Big Idea: Quantum Leap

• Roundtable on Strategic Recommendations for ENG

Dated: September 25, 2018.
Crystal Robinson,
Committee Management Officer.

[FR Doc. 2018-21220 Filed 9-28-18; 8:45 am]

BILLING CODE 7555-01-P